DEPARTMENT OF ENERGY

Federal Energy Regulatory Commission

[Docket No. EC02-92-000, et al.]

The Empire District Electric Company, et al.; Electric Rate and Corporate Regulation Filings

July 15, 2002.

The following filings have been made with the Commission. The filings are listed in ascending order within each docket classification.

1. The Empire District Electric Company

[Docket No. EC02-92-000]

Take notice that on July 5, 2002, The Empire District Electric Company (Empire) filed with the Federal Energy Regulatory Commission (Commission), an application pursuant to Section 203 of the Federal Power Act for authorization of a disposition of jurisdictional facilitates whereby Empire will transfer functional control of its jurisdictional transmission facilities to the regional transmission organization that will result from consolidation of Southwest Power Pool, Inc. and the Midwest Independent Transmission System Operator, Inc.

Copies of this filing were served on all affected state utility commissions.

Comment Date: July 26, 2002.

2. Nevada Power Company

[Docket No. ER02-84-003]

Take notice that on July 9, 2002, Nevada Power Company (Nevada Power) tendered for filing a revised and corrected Interconnection and Operation Agreement between Nevada Power and Duke Energy Moapa, LLC.

Comment Date: July 30, 2002.

3. Boston Edison Company

[Docket No. ER02-843-002]

Take notice that on July 9, 2002, Boston Edison Company (Boston Edison) tendered for filing a Related Facilities Agreement between Boston Edison and Mirant Kendall, LLC (Mirant Kendall) in compliance with the directives of the Federal Energy Regulatory Commission contained in a letter order issued on June 14, 2002 in this proceeding. Boston Edison requests an effective date of the Agreement, of March 26, 2002.

Comment Date: July 30, 2002.

4. New York Independent System Operator, Inc.

[Docket No. ER02-1507-001]

Take notice that on July 8, 2002, the New York Independent System Operator, Inc. (NYISO) tendered for filing with the Federal Energy Regulatory Commission (Commission), revisions to its Open Access Transmission and Market Administration and Control Area Services Tariffs in order to reflect revisions pertaining to the treatment of Pre-Scheduled Transaction Requests, pursuant to the Commission's order issued on June 6, 2002, in the above-captioned docket. The NYISO has requested an effective date of April 11, 2002, for the filing.

The NYISO has served a copy of this filing upon parties on the official service list maintained by the Commission for the above-captioned docket.

Comment Date: July 29, 2002.

5. New England Power Pool

[Docket No. ER02-1618-001]

Take notice that on July 8, 2002, the New England Power Pool (NEPOOL) Participants Committee tendered for filing with the Federal Energy Regulatory Commission (Commission), a Report of Compliance as required by the Commission's June 21, 2002 order issued in Docket No. ER02-1618-000.

The NEPOOL Participants Committee states that copies of these materials were sent to the NEPOOL Participants, Non-Participant Transmission Customers and the New England state governors and regulatory commissions.

Comment Date: July 29, 2002.

6. Duke Energy Corporation

[Docket No. ER02-2008-001]

Take notice that on July 9, 2002, Duke Energy Corporation (Duke) on behalf of Duke Electric Transmission (Duke ET), tendered for filing an amended Interconnection and Operating Agreement (IOA) between Duke ET and GenPower Anderson, LLC.

Duke seeks an effective date for the amended IOA of June 4, 2002.Comment Date: July 30, 2002.

7. Duke Energy Corporation

[Docket No. ER02-2079-001]

Take notice that on July 9, 2002, Duke Energy Corporation (Duke) on behalf of Duke Power and Duke Electric Transmission (Duke ET), tendered for filing an executed Service Agreement for Network Integration Transmission Service (NITSA), dated March 14, 1997, and amended May 16, 2002, between Duke Power, on its own behalf and acting as agent for Nantahala Power and Light Company, and the City of Seneca, South Carolina (Seneca). Included with the NITSA were Revised Specifications for network integration transmission service under the NITSA and an executed Network Operating Agreement (NOA) between Duke ET and Seneca.

Duke seeks an effective date of May 16, 2002.

Comment Date: July 30, 2002.

8. California Independent System Operator Corporation

[Docket No. ER02-2163-001]

Take notice that on July 8, 2002, the California Independent System Operator Corporation (ISO) tendered for filing with the Federal Energy Regulatory Commission (Commission), an Errata to the First Revised Service Agreement No. 368 Under ISO Rate Schedule No. 1, which is a Participating Generator Agreement (PGA) between the ISO and Point Arguello Pipeline Company (Point Arguello). The Errata corrects the Resource ID for Schedule 1. The ISO filed First Revised Service Agreement No. 368 on June 26, 2002 to update Schedule 1 of the PGA. The ISO requested that the revised PGA be made effective as of June 6, 2002.

The ISO states that this filing has been served on all entities that are on the official service list for Docket No. ER01-1953-000.

Comment Date: July 29, 2002.

9. Louisville Gas and Electric Company/Kentucky Utilities Company

[Docket No. ER02-2274-000]

Take notice that on July 5, 2002, Louisville Gas and Electric Company (LG&E)/Kentucky Utilities (KU) (hereinafter Companies) tendered for filing an amendment to the full requirement power contract between the Companies and the City of Benham Kentucky (Rate Schedule FERC No 187). The amendment removes contractual language between the City of Benham and the Southeastern Power Administration (SEPA). The SEPA language has been incorrectly attached to the power agreement.

Comment Date: July 26, 2002.

10. Louisville Gas and Electric Company/Kentucky Utilities Company

[Docket No. ER02-2275-000]

Take notice that on July 5, 2002, Louisville Gas and Electric Company (LG&E)/Kentucky Utilities (KU) (hereinafter Companies) tendered for filing an amendment to the full requirement power contract between the Companies and the City of Corbin Kentucky (Rate Schedule FERC No 188). The amendment removes contractual language between the City of Corbin and the Southeastern Power Administration (SEPA). The SEPA language has been incorrectly attached to the power agreement.

Comment Date: July 26, 2002.

11. Louisville Gas and Electric Company/Kentucky Utilities Company

[Docket No. ER02-2276-000]

Take notice that on July 5, 2002, Louisville Gas and Electric Company (LG&E)/Kentucky Utilities (KU) (hereinafter Companies) tendered for filing an amendment to the full requirement power contract between the Companies and the City of Falmouth Kentucky (Rate Schedule FERC No 189). The amendment removes contractual language between the City of Falmouth and the Southeastern Power Administration (SEPA). The SEPA language has been incorrectly attached to the power agreement.

Comment Date: July 26, 2002.

12. Louisville Gas and Electric Company/Kentucky Utilities Company

[Docket No. ER02-2277-000]

Take notice that on July 5, 2002, Louisville Gas and Electric Company (LG&E)/Kentucky Utilities (KU) (hereinafter Companies) tendered for filing an amendment to the full requirement power contract between the Companies and the City of Nicholasville Kentucky (Rate Schedule FERC No 163). The amendment removes contractual language between the City of Nicholasville and the Southeastern Power Administration (SEPA). The SEPA language has been incorrectly attached to the power agreement.

Comment Date: July 26, 2002.

13. Louisville Gas and Electric Company/Kentucky Utilities Company

[Docket No. ER02-2278-000]

Take notice that on July 5, 2002, Louisville Gas and Electric Company (LG&E)/Kentucky Utilities (KU) (hereinafter Companies) tendered for filing an amendment to the full requirement power contract between the Companies and the City of Nicholasville Kentucky (Rate Schedule FERC No 198). The amendment removes contractual language between the City of Nicholausville and the Southeastern Power Administration (SEPA). The SEPA language has been incorrectly attached to the power agreement.

Comment Date: July 26, 2002.

14. Louisville Gas and Electric Company/Kentucky Utilities Company

[Docket No. ER02-2279-000]

Take notice that on July 5, 2002 , Louisville Gas and Electric Company (LG&E)/Kentucky Utilities (KU) (hereinafter Companies) tendered for filing an amendment to the full requirement power contract between the Companies and the City of Nicholausville Kentucky (Rate Schedule FERC No 216). The amendment removes contractual language between the City of Nicholausville and the Southeastern Power Administration (SEPA). The SEPA language has been incorrectly attached to the power agreement.

Comment Date: July 26, 2002.

15. Louisville Gas and Electric Company/Kentucky Utilities Company

[Docket No. ER02-2280-000]

Take notice that on July 5, 2002, Louisville Gas and Electric Company (LG&E)/Kentucky Utilities (KU) (hereinafter Companies) tendered for filing an amendment to the full requirement power contract between the Companies and the City of Providence Kentucky (Rate Schedule FERC No 195). The amendment removes contractual language between the City of Providence and the Southeastern Power Administration (SEPA). The SEPA language has been incorrectly attached to the power agreement.

Comment Date: July 26, 2002.

16. Louisville Gas and Electric Company/Kentucky Utilities Company

[Docket No. ER02-2281-000]

Take notice that on July 5, 2002, Louisville Gas and Electric Company (LG&E)/Kentucky Utilities (KU) (hereinafter Companies) tendered for filing an amendment to the full requirement power contract between the Companies and the City of Providence Kentucky (Rate Schedule FERC No 196). The amendment removes contractual language between the City of Providence and the Southeastern Power Administration (SEPA). The SEPA language has been incorrectly attached to the power agreement.

Comment Date: July 26, 2002.

17. Louisville Gas and Electric Company/Kentucky Utilities Company

[Docket No. ER02-2282-000]

Take notice that on July 5, 2002, Louisville Gas and Electric Company (LG&E)/Kentucky Utilities (KU) (hereinafter Companies) tendered for filing an amendment to the full requirement power contract between the Companies and the City of Madisonville Kentucky (Rate Schedule FERC No 161). The amendment removes contractual language between the City of Madisonville and the Southeastern Power Administration (SEPA). The SEPA language has been incorrectly attached to the power agreement.

Comment Date: July 26, 2002.

18. Louisville Gas and Electric Company/Kentucky Utilities Company

[Docket No. ER02-2283-000]

Take notice that on July 5, 2002, Louisville Gas and Electric Company (LG&E)/Kentucky Utilities (KU) (hereinafter Companies) tendered for filing an amendment to the full requirement power contract between the Companies and the City of Ownensboro Kentucky (Rate Schedule FERC No 74). The amendment removes contractual language between the City of Owensboro and the Southeastern Power Administration (SEPA). The SEPA language has been incorrectly attached to the power agreement.

Comment Date: July 26, 2002.

19. Louisville Gas and Electric Company/Kentucky Utilities Company

[Docket No. ER02-2284-000]

Take notice that on July 5, 2002, Louisville Gas and Electric Company (LG&E)/Kentucky Utilities (KU) (hereinafter Companies) tendered for filing an amendment to the full requirement power contract between the Companies and the City of Paris Kentucky (Rate Schedule FERC No 83). The amendment removes contractual language between the City of Paris and the Southeastern Power Administration (SEPA). The SEPA language has been incorrectly attached to the power agreement.

Comment Date: July 26, 2002.

20. Louisville Gas and Electric Company/Kentucky Utilities Company

[Docket No. ER02-2286-000]

Take notice that on July 5, 2002, Louisville Gas and Electric Company (LG&E)/Kentucky Utilities (KU) (hereinafter Companies) tendered for filing an amendment to the full requirement power contract between the Companies and the City of Madisonville Kentucky (Rate Schedule FERC No 192). The amendment removes contractual language between the City of Madisonville and the Southeastern Power Administration (SEPA). The SEPA language has been incorrectly attached to the power agreement.

Comment Date: July 26, 2002.

21. Illinois Power Company

[Docket No. ER02-2287-000]

Take notice that on July 5, 2002, Illinois Power Company (Illinois Power), filed a First Revised Network Integration Transmission Service Agreement with Illinois Power, as retail merchant.

Illinois Power requests an effective date of July 1, 2002 for the Agreement and seeks a waiver of the Commission's notice requirement. Illinois Power has mailed a copy of the filing to the Transmission Customer.

Comment Date: July 26, 2002.

22. California Independent System Operator Corporation

[Docket No. ER02-2288-000]

Take notice that on July 8, 2002, the California Independent System Operator Corporation (ISO) tendered for filing with the Federal Energy Regulatory Commission (Commission), a participating Generator Agreement between the ISO and Recot, Inc., dba Frito-Lay Inc. For acceptance by the Commission.

The ISO states that this filing has been served on Frito-Lay and the California Public Utilities Commission.

The ISO is requesting waiver of the 60-day notice requirement to allow the Participating Generator Agreement to be made effective June 25, 2002.

Comment Date: July 29, 2002.

23. California Independent System Operator Corporation

[Docket No. ER02-2289-000]

Take notice that the on July 8, 2002, California Independent System Operator Corporation, (ISO) tendered for filing with the Federal Energy Regulatory Commission (Commission) a Meter Service Agreement for ISO Metered Entities between the ISO and Recot, Inc., dba Frito-Lay Inc. for acceptance by the Commission.

The ISO states that this filing has been served on Frito-Lay and the California Public Utilities Commission.

The ISO is requesting waiver of the 60-day notice requirement to allow the Meter Service Agreement for ISO Metered Entities to be made effective June 25, 2002.

Comment Date: July 29, 2002.

24. WPS Resources Operating Companies[Docket No. ER02-2290-000]

Take notice that on July 8, 2002, the WPS Resources Operating Companies, on behalf of Wisconsin Public Service Corporation and Upper Peninsula Power Company (collectively, WPS Resources) tendered for filing with the Federal Energy Regulatory Commission (Commission), a notice of cancellation and revised service agreement cover sheets (Cancellation Documents) to terminate service agreements between WPS Resources and its customers providing for transmission service. The Cancellation Documents are being filed because WPS Resources is no longer providing service under the service agreements.

WPS Resources respectfully requests that the Commission allow the Cancellation Documents to become effective on July 9, 2002, the day after filing.

Copies of the filing were served upon customers that were taking service under the service agreements, the Public Service Commission of Wisconsin and the Michigan Public Service Commission.

Comment Date: July 29, 2002.

25. Northern Indiana Public Service Company

[Docket No. ER02-2291-000]

Take notice that on July 8, 2002, Northern Indiana Public Service Company (Northern Indiana), tendered for filing with the Federal Energy Regulatory Commission (Commission) an executed Standard Transmission Service Agreement for Non-Firm Point-to-Point Transmission Service between Northern Indiana Public Service Company and Energy USA-TPC Corp., Transmission Customer (Transmission Customer).

Under the Transmission Service Agreement, Northern Indiana Public Service Company will provide Non-Firm Point-to-Point Transmission Service to Transmission Customer pursuant to the Transmission Service Tariff filed by Northern Indiana Public Service Company in Docket No. OA96-47-000 and allowed to become effective by the Commission. Northern Indiana Public Service Company has requested that the Service Agreement be allowed to become effective as of July 9, 2002.

Comment Date: July 29, 2002.

27. Northern Indiana Public Service Company

[Docket No. ER02-2292-000]

Take notice that on July 8, 2002, Northern Indiana Public Service Company tendered for filing an executed Standard Transmission Service Agreement for Firm Point-to-Point Transmission Service between Northern Indiana Public Service Company and Energy USA-TPC Corp. (Transmission Customer).

Under the Transmission Service Agreement, Northern Indiana Public Service Company will provide Firm Point-to-Point Transmission Service to Transmission Customer pursuant to the Transmission Service Tariff filed by Northern Indiana Public Service Company in Docket No. OA96-47-000 and allowed to become effective by the Commission. Northern Indiana Public Service Company has requested that the Service Agreement be allowed to become effective as of July 9, 2002.

Copies of this filing have been sent to Energy USA-TPC Corp., the Indiana Utility Regulatory Commission, and the Indiana Office of Utility Consumer Counselor.

Comment Date: July 29, 2002.

28. Mt. Carmel Public Utility Co.

[Docket No. ER02-2293-000]

Take notice that on July 8, 2002, Mt. Carmel Public Utility Co., (Mt. Carmel) tendered for filing executed Service and Operating Agreements between Mt. Carmel and Central Illinois Public Service Co., (dba Ameren/CIPS). Mt. Carmel asserts that the purpose of the Agreement is to permit Mt. Carmel to provide transmission service to Ameren/CIPS pursuant to Mt. Carmel's Open Access Transmission Tariff.

Comment Date: July 29, 2002.

29. New England Power Pool

[Docket No. ER02-2294-000]

Take notice that on July 8, 2002, the New England Power Pool (NEPOOL) Participants Committee submitted a refiling of Sections 5 and 7 of Schedule 18 to the NEPOOL Tariff. Expedited consideration, a waiver of the sixty-day notice requirement and a June 1, 2002 effective date has been requested.

The NEPOOL Participants Committee states that copies of these materials were sent to the NEPOOL Participants, Non-Participant Transmission Customers and the New England state governors and regulatory commissions.

Comment Date: July 29, 2002.

30. American Electric Power Service Corporation

[Docket No. ER02-2295-000]

Take notice that on July 9, 2002, American Electric Power Service Corporation, on behalf of the operating companies of the American Electric Power System (collectively AEP) filed proposed amendments to its Open Access Transmission Tariff in the above-referenced docket.

AEP requests an effective date of July 1, 2000 for the proposed amendment. Copies of AEP's filing have been served upon AEP's transmission customers and the public service commissions of Arkansas, Indiana, Kentucky, Louisiana, Michigan, Ohio, Oklahoma, Tennessee, Texas, Virginia and West Virginia.

Comment Date: July 30, 2002.

31. El Paso Electric Company

[Docket No. ES02-48-000]

Take notice that on June 28, 2002, El Paso Electric Company submitted an application pursuant to section 204 of the Federal Power Act seeking authorization to extend the maturity dates of its pollution control bonds.

Comment Date: July 25, 2002.

32. Atlantic City Electric Company

[Docket No. OA02-6-000]

Take notice that on July 2, 2002, Atlantic City Electric Company (Atlantic), tendered for filing revised standards of conduct procedures. Atlantic updated its list of affiliates in the procedures. It also updated the web and physical location of the procedures.

Copies of the filing were served upon the official service list.

Comment Date: August 1, 2002.

33. Delmarva Power & Light Company

[Docket No. OA02-7-000]

Take notice that on July 2, 2002, Delmarva Power & Light Company (Delmarva) filed Revised Standards of Conduct Procedures. DelMarva updated its list of affiliates in the procedures. It also updated the web and physical location of the procedures.

Copies of the filng were served upon the official service list.

Comment Date: August 1, 2002.

Standard Paragraph

E. Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Magalie R. Salas,
Secretary

[FR Doc. 02-18344 Filed 7-19-02; 8:45 am]

BILLING CODE 6717-01-P